DEPARTMENT OF THE INTERIOR

Bureau of Land Management

[LLCOF03000 L16100000.DU0000]

Notice of Intent To Prepare an Environmental Impact Statement for Domestic Sheep Grazing Allotments for Term Grazing Permit Renewals in the Southern San Luis Valley, CO

AGENCY: Bureau of Land Management, Interior.

ACTION: Notice of Intent.

SUMMARY: In compliance with the National Environmental Policy Act of 1969 (NEPA), as amended, and the Federal Land Policy and Management Act of 1976 (FLPMA), as amended, the Bureau of Land Management (BLM), La Jara Field Office, La Jara, Colorado, intends to prepare an Environmental Impact Statement (EIS) related to the potential renewal of domestic sheep grazing permits on 12 allotments and 1 cattle grazing allotment in the southern San Luis Valley. This notice initiates the scoping process to solicit public comments and identify issues relevant to the EIS.

DATES: Comments on issues may be submitted in writing until July 5, 2011. The date(s) and location(s) of any scoping meetings will be announced at least 15 days in advance through local media, newspapers, and the BLM Web site at: http://www.blm.gov/co/st/en/fo/slvplc.html. In order to be included in the Draft EIS, all comments must be received prior to the close of the 30-day scoping period or 30 days after the last public meeting, whichever is later. The BLM will provide additional opportunities for public participation upon publication of the Draft EIS.

ADDRESSES: You may submit comments on issues and planning criteria related to the project by any of the following methods:

• Web site: http://www.blm.gov/co/st/en/fo/slvplc.html.

• E-mail: slvplc_comments@blm.gov.

• Fax: 719-655-2502.

• Mail: Saguache Public Lands Office, 46525 Highway 114, Saguache, Colorado 81149, Attention Mark Swinney.

Documents pertinent to this proposal are available at the BLM Saguache Public Lands Office.

FOR FURTHER INFORMATION CONTACT: Mark Swinney, Project Manager, telephone 719-655-6105; address 46525 Highway 114, Saguache, Colorado 81149; e-mail mswinney@blm.gov. Persons who use a telecommunications device for the deaf (TDD) may call the Federal Information Relay Service (FIRS) at 1-800-877-8339 to contact the above individual during normal business hours. The FIRS is available 24 hours a day, 7 days a week, to leave a message or question with the above individual. You will receive a reply during normal business hours.

SUPPLEMENTARY INFORMATION: Term permits on 12 sheep grazing and 1 cattle grazing allotments located in Conejos and Rio Grande Contus either are or will be expiring in the future. Existing permits allow grazing in or adjacent to Rocky Mountain big horn sheep habitat. In connection with the potential renewal of these permits, the BLM is initiating an EIS. The EIS will analyze domestic sheep grazing in or adjacent to Rocky Mountain bighorn sheep habitat and will consider potential mitigation measures that can be implemented in permit renewals for these 13 allotments. The purpose of the public scoping process is to determine relevant issues that will influence the scope of the environmental analysis in the EIS, including alternatives, and guide the process. Preliminary issues identified by BLM personnel; Federal, state, and local agencies; and other stakeholders, include:

• Potential disease transmission from the interaction between Rocky Mountain bighorn sheep and domestic sheep;

• History, distribution, location, and population trends of bighorn sheep herds in the project area;

• Protection of Threatened and Endangered and Special Status Species;

• Maintaining land health standards;

• Desired future conditions of aquatic, riparian, and terrestrial species and communities; and

• Protection of cultural resources and archaeological values (prehistoric and historic) of the area.

The BLM will utilize and coordinate the NEPA commenting process to satisfy the public involvement process for Section 106 of the National Historic Preservation Act (16 U.S.C. 470f) as provided for in 36 CFR 800.2(d)(3). Native American tribal consultations will be conducted in accordance with policy, and Tribal concerns will be given due consideration, including impacts on Indian trust assets.

Federal, State, and local agencies, along with other stakeholders that may be interested or affected by the BLM's decision on this project, are invited to participate in the scoping process and, if eligible, may request or be requested by the BLM to participate as a cooperating agency.

Before including your address, phone number, e-mail address, or other personal identifying information in your comment, you should be aware that your entire comment—including your personal identifying information—may be made publicly available at any time. While you can ask us in your comment to withhold your personal identifying information from public review, we cannot guarantee that we will be able to do so.

Authority: 40 CFR 1506.6, 40 CFR 1506.10.

Helen M. Hankins,
State Director.

[FR Doc. 2011-13718 Filed 6-1-11; 8:45 am]

BILLING CODE 4310-JB-P